ENVIRONMENTAL PROTECTION AGENCY

40 CFR Part 81

[EPA-R05-OAR-2018-0368; EPA-R05-OAR-2018-0556; FRL-9988-38-Region 5]

Air Plan Approval; Illinois; Indiana; Revised Designation of Illinois and Indiana 2012 PM2.5 Unclassifiable Areas

Correction

In rule document 2018-27903, appearing on pages 66631-66635, in the issue of Thursday, December 27, 2018, make the following correction:

§ 81.315 Indiana. [Corrected]

On page 66634, in the table titled “Indiana—2012 Annual PM2.5 NAAQS [Primary]”, in the second column titled “Date ²”, the dates that read “1/28/2018”, should read 01/28/2019”.

[FR Doc. C1-2018-27903 Filed 7-10-19; 8:45 am]

BILLING CODE 1301-00-D